INTERNATIONAL TRADE COMMISSION

[USITC SE-11-036]

Sunshine Act Meeting Notice

ACTION: Change of time of Government in the Sunshine Meeting.

AGENCY HOLDING THE MEETING: United States International Trade Commission.

ORIGINAL DATE AND TIME: December 5, 2011 at 2 p.m.

NEW DATE AND TIME: December 5, 2011 at 11 a.m.

PLACE: Room 100, 500 E Street SW., Washington, DC 20436. Telephone: (202) 205-2000.

In accordance with 19 CFR 201.35(d)(1), the Commission has determined to change the time for the meeting which was scheduled for December 5, 2011 at 2 p.m. to December 5, 2011 at 11 a.m. to vote on Inv. Nos. 701-TA-388-391 and 731-TA-817-821 (Third Review)(Cut-to-Length Carbon-Quality Steel Plate from India, Indonesia, Italy, Japan, and Korea). Earlier announcement of this change was not possible.

By order of the Commission.
Issued: December 1, 2011.
William R. Bishop,
Hearings and Meeting Coordinator.

[FR Doc. 2011-31321 Filed 12-1-11; 4:15 pm]

BILLING CODE 7020-02-P